FEDERAL COMMUNICATIONS COMMISSION

47 CFR Part 73

[DA 04-911, MM Docket No. 02-12; RM-10356, RM-10551, RM-10553, RM-10554]

Radio Broadcasting Services; Ash Fork, Chino Valley, Dolan Springs, Fredonia, Gilbert, Peach Springs, Seligman and Tusayan, AZ, Moapa Valley, NV, and Beaver and Cedar City, UT

AGENCY: Federal Communications Commission.

ACTION: Final rule, grant of petition for reconsideration.

SUMMARY: In response to a Petition for Reconsideration jointly filed by NPR Phoenix, LLC and Prescott Radio Partners, this document substitutes Channel 280C1 for Channel 280C2 at Gilbert, Arizona, and modifies the Station KEDJ license to specify operation on Channel 280C1. In order to accommodate the Channel 280C1 allotment at Gilbert, this document substitutes Channel 232C3 for Channel 280C3 at Chino Valley, Arizona, and modifies the Station KFPB license to specify operation on Channel 232C3. See 68 FR 69327, December 12, 2003. The reference coordinates for the Channel 280C1 allotment at Gilbert, Arizona, are 33-25-39 and 111-28-03. The reference coordinates for the Channel 232C3 allotment at Chino Valley, Arizona, are 34-52-03 and 112-33-04. With this action, the proceeding is terminated.

DATES: Effective May 20, 2004.

FOR FURTHER INFORMATION CONTACT: Robert Hayne, Media Bureau (202) 418-2177.

SUPPLEMENTARY INFORMATION: This is a synopsis of the Memorandum Opinion and Order in MM Docket No. 02-12 adopted April 2, 2004, and released April 5, 2004. The full text of this decision is available for inspection and copying during normal business hours in the FCC Reference Information Center at Portals II, CY-A257, 445 12th Street, SW., Washington, DC. The complete text of this decision may also be purchased from the Commission's copy contractor, Qualex International, Portals II, 445 12th Street, SW., Room CY-B402, Washington, DC 20554, telephone (202) 863-2893, facsimile (202) 863-2898, or via e-mail qualixint@aol.com.

List of Subjects in 47 CFR Part 73

Radio, Radio broadcasting.

Part 73 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Arizona, is amended by removing Channel 280C3 and by adding Channel 232C3 at Chino Valley and by removing Channel 280C2 and by adding Channel 280C1 at Gilbert.

Federal Communications Commission.
John A. Karousos,
Assistant Chief, Audio Division, Media Bureau.

[FR Doc. 04-8687 Filed 4-15-04; 8:45 am]

BILLING CODE 6712-01-P